UNIFIED CARRIER REGISTRATION PLAN

Sunshine Act Meeting Notice; Unified Carrier Registration Plan Board Subcommittee Meeting

TIME AND DATE: January 16, 2020, from 9:00 a.m. to 6:00 p.m., Eastern time.

PLACE: The Towers at Wildwood, 3200 Windy Hill Road SE, Suite 600W, Atlanta, GA. This meeting will also be accessible via conference call. Any interested person may call 1-866-210-1669, passcode 5253902#, to listen and participate in the meeting.

STATUS: This meeting will be open to the public.

MATTERS TO BE CONSIDERED: The Unified Carrier Registration Plan Board Education and Training Subcommittee (the “Subcommittee”) will continue its work in developing and implementing the Unified Carrier Registration Plan and Agreement. The subject matter of this meeting will include:

Unified Carrier Registration Plan

January 16, 2020

Education and Training Subcommittee Meeting

Agenda

Open to the Public

I. Call to Order—Subcommittee Chair

The Subcommittee Chair will welcome attendees, call the meeting to order, call roll for the Subcommittee and confirm whether a quorum is present, and facilitate self-introductions.

II. Verification of Meeting Notice—UCR Executive Director

The UCR Executive Director will verify the publication of meeting notice on the UCR website and in the Federal Register.

III. Review and Approval of Subcommittee Agenda and Setting of Ground Rules—Subcommittee Chair

For Discussion and Possible Action

The Subcommittee Agenda will be reviewed and the Subcommittee will consider adoption.

Ground Rules

➢ Subcommittee action only to be taken in designated areas on agenda

➢ Please MUTE your phone

➢ Please do not place the call on HOLD

IV. Approval of Minutes From October 16, 2019 Meeting—UCR Operations Manager

For Discussion and Possible Action

• Minutes from the October 16, 2019 Education and Training Subcommittee meeting will be reviewed. The Subcommittee will consider action to approve.

V. Review of Project Goals—UCR Education Manager

The UCR Education Manager will lead a discussion covering the following topics:

i. Creation of education and training modules and setting their priority. Initial training modules; Enforcement (specifically new entrant audit training, inspection training, and compliance review), UCR Overview (or UCR 101), National Registration System (NRS), and New Carriers

ii. Discuss intended audience, intention of training modules (including objectives and desired outcomes), and determination of how to quantify success and obtain consensus on key performance indicators (metrics)

VI. Discussion of Learning Format—UCR Technology Director

The UCR Technology Director will discuss with the Subcommittee format options for education modules:

i. Webinars

ii. Live trainings

iii. Voice synced with PowerPoint slides

iv. Recorded live-action/voice overs

v. Other potential formats.

VII. Content Development—UCR Education Manager

The UCR Education Manager will lead a discussion to identify key topics for each of the following proposed education/training modules:

i. Enforcement

ii. UCR Overview Module (working title: UCR 101)

iii. National Registration System

iv. New Carriers

VIII. Review Results of Needs Assessment Survey—UCR Education Manager

The UCR Education Manager will review results from the recent needs-assessment survey and lead a discussion about the findings.

IX. Review Action Items—UCR Operations Manager

The UCR Operations Manager will review proposed next steps and seek consensus from the Subcommittee.

X. Other Business—Subcommittee Chair

The Subcommittee Chair will call for any other items the committee members would like to discuss.

XI. Adjournment—Subcommittee Chair

Subcommittee Chair will adjourn the meeting.

This agenda will be available no later than 5:00 p.m. Eastern daylight time, January 7, 2020 at: https://ucrplan.org.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-00218 Filed 1-7-20; 11:15 am]

BILLING CODE 4910-YL-P